DEPARTMENT OF TRANSPORTATION

Federal Aviation Administration

14 CFR Part 39

[Docket No. FAA-2005-20138; Directorate Identifier 2004-NM-167-AD; Amendment 39-14204; AD 2005-15-15]

RIN 2120-AA64

Airworthiness Directives; Boeing Model 757-200, -200PF, and -200CB Series Airplanes Equipped With Pratt & Whitney or Rolls-Royce Engines

AGENCY: Federal Aviation Administration (FAA), Department of Transportation (DOT).

ACTION: Final rule.

SUMMARY: The FAA is adopting a new airworthiness directive (AD) for certain Boeing Model 757-200, -200PF, and -200CB series airplanes. This AD requires inspecting to determine the part number of the upper link forward fuse pins of the engine struts and replacing the fuse pins as necessary. This AD is prompted by a report indicating that, due to an incorrect listing in the illustrated parts catalog, persons performing maintenance on the engine strut(s) could have installed an incorrect upper link forward fuse pin. We are issuing this AD to prevent a ruptured wing box, due to the engine not separating safely during certain emergency landing conditions, which could lead to a fuel spill and consequent fire.

DATES: This AD becomes effective September 1, 2005.

The incorporation by reference of a certain publication listed in the AD is approved by the Director of the Federal Register as of September 1, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20138; the directorate identifier for this docket is 2004-NM-167-AD.

FOR FURTHER INFORMATION CONTACT: Dennis Stremick, Aerospace Engineer, Airframe Branch, ANM-120S, FAA, Seattle Aircraft Certification Office, 1601 Lind Avenue, SW., Renton, Washington 98055-4056; telephone (425) 917-6450; fax (425) 917-6590.

SUPPLEMENTARY INFORMATION: The FAA proposed to amend 14 CFR part 39 with an AD for certain Boeing Model 757-200, -200PF, and -200CB series airplanes. That action, published in the Federal Register on January 28, 2005 (70 FR 4050), proposed to require inspecting to determine the part number of the upper link forward fuse pins of the engine struts and replacing the fuse pins as necessary.

Comments

We provided the public the opportunity to participate in the development of this AD. We have considered the comments that have been submitted on the proposed AD.

Support for the Proposed AD

Two commenters support the proposed AD.

Request To Revise the Applicability

One commenter, the manufacturer, requests that paragraph (c) of the proposed AD be changed from “Model 757-200, -200PF, and -300 series airplanes” to “Model 757-200, -200PF, and -200CB series airplanes.” The manufacturer states that the applicability is incorrect.

We agree with this request. We have determined that, though the summary of the proposed AD listed the affected airplanes correctly, the applicability did not. Model 757-300 series airplanes, which fall outside the series of line numbers 1-735 listed in the service information, were included in error; while Model 757-200CB series airplanes, which are contained within line numbers 1-735, were not included. We have revised paragraph (c) of the final rule to match the summary of the final rule and the service information.

Request for Alternative to Inspections

Two commenters request that a review of maintenance records be permitted as an alternative to the inspections required in the proposed AD. One commenter states that operator maintenance records list part numbers of parts that are installed on airplanes during maintenance activities, and that such records are sufficient to satisfy the requirements of the proposed AD.

We agree with this request. Operators are required to log the part numbers of all parts installed on airplanes. We have determined that, as an alternative to the inspections required by paragraph (f) of this AD, an operator may submit properly kept maintenance records to establish the parts configuration of the struts on an airplane. Therefore, we have revised paragraph (f) of this AD, inserted new paragraph (h), and reidentified the subsequent paragraphs accordingly.

Request To Delete Requirement To Use Aircraft Maintenance Manual (AMM) Procedures

One commenter requests that we delete paragraph (g) of the proposed AD. Paragraph (g) requires the use of AMM procedures and does not permit the use of operator equivalent procedures. The operator states that this requirement adds a level of complication with respect to compliance and is unenforceable.

We do not agree with this request. On at least two occasions, operator-developed procedures and tools that were thought to be equivalent to AMM procedures made certain unsafe conditions more unsafe. We have determined that the installation of engine struts and components must be accomplished according to the manufacturer's procedures. We have not changed the final rule in this regard. However, an operator may apply for an alternative method of compliance under the provisions of paragraph (j) of the final rule, if data are submitted to substantiate that an operator's equivalent procedure would provide an acceptable level of safety.

Request To Revise Fuse Pin Bore Dimensions

One commenter requests that we revise the dimensions given in paragraphs (f)(3)(i) and (f)(3)(ii) of the proposed AD for the inside dimensions of the fuse pin bore. The commenter states that it has reviewed the design drawings and has determined that dimensions other than those given in the proposed AD should be shown. The commenter has submitted dimensions and asserts that they are correct.

We do not agree with this request. We have determined that the dimensions provided by the commenter do not agree with the manufacturer's design drawings, and that the instructions shown in the proposed AD are correct. Further, the dimension of 0.850 inch shown in paragraphs (f)(3)(i) and (f)(3)(ii) of the proposed AD, which is below the minimum pin bore dimension of the -1 part and above the maximum pin bore dimension of the -2 part, was specified to simplify the inspection process for all operators. We have not changed the final rule in this regard.

Conclusion

We have carefully reviewed the available data, including the comments that have been submitted, and determined that air safety and the public interest require adopting the AD with the changes described previously. We have determined that these changes will neither increase the economic burden on any operator nor increase the scope of the AD.

Costs of Compliance

There are about 735 airplanes of the affected design in the worldwide fleet. This AD will affect about 478 airplanes of U.S. registry. The inspection will take about 1 work hour per fuse pin (2 fuse pins per airplane), at an average labor rate of $65 per work hour. Based on these figures, the estimated cost of the required actions to U.S. operators is $62,140, or $130 per airplane.

Replacement of any upper link forward fuse pin, if required, will take about 26 work hours, at an average labor rate of $65 per work hour. Required parts will cost about $431. Based on these figures, the estimated cost of a replacement is $2,121 per fuse pin.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-15-15 Boeing: Amendment 39-14204. Docket No. FAA-2005-20138; Directorate Identifier 2004-NM-167-AD.

Effective Date

(a) This AD becomes effective September 1, 2005.

Affected ADs

(b) None.

Applicability

(c) This AD applies to Boeing Model 757-200, -200PF, and -200CB series airplanes, line numbers 1 through 735 inclusive, certificated in any category; equipped with Pratt & Whitney or Rolls-Royce engines.

Unsafe Condition

(d) This AD was prompted by a report indicating that, due to an incorrect listing in the illustrated parts catalog, persons performing maintenance on the engine strut(s) could have installed an incorrect upper link forward fuse pin having part number (P/N) 311N5501-2. We are issuing this AD to prevent a ruptured wing box, due to the engine not separating safely during certain emergency landing conditions, which could lead to a fuel spill and consequent fire.

Compliance

(e) You are responsible for having the actions required by this AD performed within the compliance times specified, unless the actions have already been done.

Inspection of Fuse Pin

(f) Within 24 months after the effective date of this AD, perform a detailed inspection to determine the P/N of the upper link forward fuse pins of the engine struts, in accordance with the Accomplishment Instructions of Boeing Special Attention Service Bulletin 757-54-0048, dated May 13, 2004, except as provided in paragraphs (g) and (h) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If the fuse pin is P/N 311N5501-1 or P/N 311N5060-1, no further action is required for that fuse pin.

(2) If the fuse pin is P/N 311N5501-2, prior to further flight, replace the fuse pin with a new or serviceable fuse pin, P/N 311N5501-1, in accordance with the Accomplishment Instructions of the service bulletin.

(3) If the P/N of the fuse pin cannot be determined by inspection, use a tool such as an inside reading micrometer to determine the inside diameter (ID) of the fuse pin bore.

(i) If the ID of the fuse pin bore is greater than or equal to 0.850 inch, no further action is required for that fuse pin.

(ii) If the ID of the fuse pin bore is less than 0.850 inch, prior to further flight, replace the fuse pin as specified in paragraph (f)(2) of this AD.

(g) Where Boeing Special Attention Service Bulletin 757-54-0048, dated May 13, 2004, permits the use of an “approved equivalent procedure” for access and replacement of the fuse pin(s), this AD requires that access and replacement be done in accordance with the instructions of the aircraft maintenance manual (AMM) as specified in the service bulletin.

Optional Alternative to Inspections

(h) Instead of the inspections required by paragraph (f) of this AD, a review of the airplane maintenance records is acceptable if the P/N of the fuse pins can be positively determined from that review.

Parts Installation

(i) As of the effective date of this AD, no person may install a fuse pin, P/N 311N5501-2, on any airplane identified in the applicability of this AD.

Alternative Methods of Compliance (AMOCs)

(j)(1) The Manager, Seattle Aircraft Certification Office (ACO), FAA, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Seattle ACO, to make those findings. For a repair method to be approved, the repair must meet the certification basis of the airplane, and the approval must specifically refer to this AD.

Material Incorporated by Reference

(k) You must use Boeing Special Attention Service Bulletin 757-54-0048, dated May 13, 2004, to perform the actions that are required by this AD, unless the AD specifies otherwise. The Director of the Federal Register approves the incorporation by reference of this document in accordance with 5 U.S.C. 552(a) and 1 CFR part 51. To get copies of the service information, contact Boeing Commercial Airplanes, P.O. Box 3707, Seattle, Washington 98124-2207. To view the AD docket, go to the Docket Management Facility, U.S. Department of Transportation, 400 Seventh Street SW, room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on July 14, 2005.
Ali Bahrami,
Manager, Transport Airplane Directorate, Aircraft Certification Service.

[FR Doc. 05-14685 Filed 7-27-05; 8:45 am]

BILLING CODE 4910-13-P